DEPARTMENT OF STATE

[Public Notice 3706]

Culturally Significant Objects Imported for Exhibition Determinations: “Russian Avant-Garde Drawings of the 20th Century”

AGENCY: United States Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681 et seq.), Delegation of Authority No. 234 of October 1, 1999 (64 FR 56014), and Delegation of Authority No. 236 of October 19, 1999 (64 FR 57920), as amended by Delegation of Authority No. 236-3 of August 28, 2000 (65 FR 53795), I hereby determine that the objects to be included in the exhibit, “Russian Avant-Garde Drawings of the 20th Century,” imported from abroad for the temporary exhibition without profit within the United States, are of cultural significance. The objects are imported pursuant to a loan agreement with a foreign lender. I also determine that the temporary exhibition or display of the objects at the Northeast Document Conservation Center, Andover, Massachusetts, from on or about October 15, 2001, to on or about November 9, 2001, and possible additional venues yet to be determined is in the national interest. Public Notice of these determinations is ordered to be published in the Federal Register.

FOR FURTHER INFORMATION CONTACT: For further information, including a list of the exhibit objects, contact Paul W. Manning, Attorney-Adviser, Office of the Legal Adviser, 202/619-5997, and the address is United States Department of State, SA-44, Room 700, 301 4th Street, SW., Washington, DC 20547-0001.

Dated: June 14, 2001.
Helena Kane Finn,
Acting Assistant Secretary for Educational and Cultural Affairs, United States Department of State.

[FR Doc. 01-15628 Filed 6-20-01; 8:45 am]

BILLING CODE 4710-08-P